DEPARTMENT OF COMMERCE

International Trade Administration

[A-427-801]

Ball Bearings and Parts Thereof From France: Initiation of Antidumping Duty Changed-Circumstances Review

AGENCY: Import Administration, International Trade Administration, Department of Commerce.

SUMMARY: In response to a request from SNR Roulements S.A., the Department of Commerce is initiating a changed-circumstances review of the antidumping duty order on ball bearings and parts thereof from France.

DATES: Effective Date: September 18, 2009.

FOR FURTHER INFORMATION CONTACT: Thomas Schauer or Richard Rimlinger, AD/CVD Operations, Office 5, Import Administration, International Trade Administration, U.S. Department of Commerce, 14th Street and Constitution Avenue, NW., Washington, DC 20230; (202) 482-0410 or (202) 482-4477, respectively.

SUPPLEMENTARY INFORMATION:

Background

The Department of Commerce (the Department) published an antidumping duty order on ball bearings and parts thereof from France on May 15, 1989. See Antidumping Duty Orders: Ball Bearings, Cylindrical Roller Bearings, Spherical Plain Bearings, and Parts Thereof from France, 54 FR 20902 (May 15, 1989).

On August 21, 2009, SNR Roulements S.A. (SNR) requested that, because NTN Bearing Corporation of America (NBCA) acquired a 51-percent interest in SNR, the Department initiate a changed-circumstances review to determine whether post-acquisition SNR is the successor-in-interest to pre-acquisition SNR.

No other party has submitted comments.

Scope of the Order

The products covered by the order are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90.

As a result of changes to the HTSUS, effective February 2, 2007, the subject merchandise is also classifiable under the following additional HTSUS item numbers: 8708.30.50.90, 8708.40.75, 8708.50.79.00, 8708.50.89.00, 8708.50.91.50, 8708.50.99.00, 8708.70.60.60, 8708.80.65.90, 8708.93.75.00, 8708.94.75, 8708.95.20.00, 8708.99.55.00, 8708.99.68, 8708.99.81.80.

Although the HTSUS item numbers above are provided for convenience and customs purposes, the written description of the scope of this order remains dispositive.

Initiation of Changed-Circumstances Review

Pursuant to section 751(b)(1) of the Tariff Act of 1930 (the Act), as amended, and 19 CFR 351.216, the Department will conduct a changed-circumstances review upon receipt of information concerning, or a request from an interested party for a review of, an antidumping duty order which shows changed circumstances sufficient to warrant a review of the order. SNR claims that it has satisfied the criteria to warrant such a review. We agree that the information submitted by SNR demonstrates changed circumstances sufficient to warrant a review. Therefore, in accordance with the above-referenced regulation, the Department is initiating a changed-circumstances review.

SNR claims that the information contained in its August 21, 2009, request demonstrates that it is the successor-in-interest to SNR prior to acquisition by NBCA (i.e., pre-acquisition SNR). Although SNR requests that the Department refrain from issuing a changed-circumstances questionnaire, in accordance with 19 CFR 351.221(b)(2) and (4), the Department may issue a questionnaire requesting factual information for the review should it decide additional information is necessary.

We will publish a notice of preliminary results of the antidumping duty changed-circumstances review in the Federal Register as explained in 19 CFR 351.221(b)(4) and 221(c)(3)(i). The notice will set forth the factual and legal conclusions upon which our preliminary results are based. Pursuant to 19 CFR 351.221(b)(4)(ii), interested parties will have an opportunity to comment on the preliminary results of review. We will issue our final results of review no later than the regulatory deadline in accordance with 19 CFR 351.216(e). During the course of this antidumping duty changed-circumstances review, we will not change the cash-deposit requirements for imports of the subject merchandise. The cash-deposit rate will be altered, if warranted, pursuant only to the final results of this changed-circumstances review.

This notice of initiation is in accordance with section 751(b)(1) of the Act, 19 CFR 351.216(b) and (d), and 19 CFR 351.221(b)(1).

Dated: September 14, 2009.
Carole A. Showers,
Acting Deputy Assistant Secretary for Policy and Negotiations.

[FR Doc. E9-22497 Filed 9-17-09; 8:45 am]

BILLING CODE 3510-DS-P